DEPARTMENT OF HEALTH AND HUMAN SERVICES

Health Resources and Services Administration

Notice of Availability of Final Policy Document

AGENCY: Health Resources and Services Administration (HRSA), HHS.

ACTION: Final agency guidance and response to public comments.

SUMMARY: HRSA is publishing a Final Agency Guidance (“Policy Information Notice” (PIN) 2010-01) to describe the documentation that will be considered by the Health Resources and Services Administration (HRSA) in confirming public agency status for organizations that self-identify as public agencies (also referred to in previous PINs as “public entities” or “public applicants”) for Health Center Program grant funding authorized under section 330 of the Public Health Service Act, as amended, and/or for Federally Qualified Health Center Look-Alike designation. The PIN, “Confirming Public Agency Status under the Health Center Program and FQHC Look-Alike Program,” and the Agency's “Response to Public Comments” are available on the Internet at http://bphc.hrsa.gov/policy/pin1001/ and http://bphc.hrsa.gov/policy/pin1001/PublcCommentsPIN2010-01.pdf, respectively.

DATES: The effective date of this final Agency guidance is February 5, 2010.

Background: HRSA administers the Health Center Program, which supports more than 1,100 organizations operating more than 7,500 health care delivery sites, including community health centers, migrant health centers, health care for the homeless centers, and public housing primary care centers. Health centers serve medically underserved communities delivering preventive and primary care services to patients regardless of their ability to pay. The Health Center Program's authorizing statute and implementing regulations (Section 330 of the PHS Act, as amended, 42 CFR part 51c, and 42 CFR part 56) state that any public or non-profit private entity is eligible to apply for a grant under the Health Center Program. The term “public agency” is not defined in section 330 of the PHS Act, as amended, or in the Health Center Program's regulations; however, reference is made to public agencies in section 330 of the PHS Act, as amended, in the context of defining a public center as “a health center funded (or to be funded) through a grant under this section to a public agency.” (Sentence following Section 330(k)(3)(M) of the PHS Act, as amended) HRSA is issuing this PIN to describe the documentation that will be considered by HRSA in confirming public agency status for organizations that self-identify as public agencies (also referred to in previous PINs as “public entities” or “public applicants”) for Health Center Program grant funding authorized under section 330 of the Public Health Service Act, as amended, and/or for Federally Qualified Health Center Look-Alike designation.

On August 14, 2009, the Health Resources and Services Administration (HRSA) made the draft Program Information Notice (PIN), “Confirming Public Agency Status under the Health Center Program and FQHC Look-Alike Program,” available for public comment. HRSA also published a notice in the Federal Register of August 28, 2009, requesting comments on this draft PIN.

Sixteen parties, including both individuals and groups, submitted a total of 31 comments regarding the draft PIN. After review and careful consideration of all comments received, HRSA has amended the PIN to incorporate certain recommendations from the public. The final PIN reflects these changes.

In addition to making the final PIN available on HRSA's Web site, HRSA is also posting the Agency's “Response to Public Comments.” The purpose of that document is to summarize the major comments received and describe the Agency's response, including any corresponding changes made to the PIN. Where comments did not result in a revision to the PIN, explanations are provided.

FOR FURTHER INFORMATION CONTACT: For questions regarding this notice, please contact the Office of Policy and Program Development, Bureau of Primary Health Care, HRSA, at OPPDGeneral@hrsa.gov.

Dated: March 8, 2010.
Mary K. Wakefield,
Administrator.

[FR Doc. 2010-5671 Filed 3-15-10; 8:45 am]

BILLING CODE 4165-15-P